DEPARTMENT OF HEALTH AND HUMAN SERVICES

Administration for Children and Families

Submission for OMB Review; Comment Request

Title: Study of We Grow Together: The Q-CCIIT Professional Development System.

OMB No.: New Collection.

Description: The Administration for Children and Families (ACF) at the U.S. Department of Health and Human Services (HHS) seeks approval to conduct a field test of We Grow Together, a system of professional development supports including web-based resources and exercises to be used by caregivers/teachers, with the help of professional development providers, to improve the quality of infant and toddler care. The study team has developed We Grow Together: The Q-CCIIT Professional Development System based on the research literature to support caregiver-child interactions in care settings serving infants and toddlers. This field test is designed to (1) examine changes associated with use of the We Grow Together system and (2) examine implementation and participant experiences with the We Grow Together system. As a secondary goal, ACF will also further evaluate the properties of the Q-CCIIT observational measure. Ultimately, findings from the field test will provide information about the experiences of professional development providers (PD providers) and caregivers with the We Grow Together system so that ACF can improve the system to make the resources as accessible as possible for infant-toddler caregivers.

Prior to using the We Grow Together system, PD providers will complete a web-based training survey and all participants will complete a web-based background survey. Periodically during the field test, website users will be asked at log-on to respond to a series of web-based questions. After system implementation, participants will complete a web-based feedback survey. The study team will also collect classroom rosters from caregivers before and after the field test.

Respondents: Early care and education (ECE) setting representatives (e.g., directors or owners), caregivers (center-based and family child care settings), and professional development providers (e.g., coaches).

Annual Burden Estimates
Instrument | Total/annual number of respondents | Number of responses per respondent | Average burden hours per response | Annual burden hours
ECE setting eligibility screener | 745 | 1 | .25 | 186
Caregiver background survey | 300 | 1 | .75 | 225
PD provider background survey | 175 | 1 | .50 | 88
Caregiver We Grow Together website user data pop-up questions | 300 | 6 | .17 | 306
PD provider We Grow Together website user pop-up questions | 175 | 5 | .10 | 88
Caregiver feedback survey | 300 | 1 | 1.0 | 300
PD provider feedback survey | 175 | 1 | .75 | 131
Classroom roster | 300 | 2 | .08 | 48
PD provider training survey | 175 | 1 | .17 | 30

Estimated Total Annual Burden Hours: 1,402.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying, Officer.

[FR Doc. 2018-04429 Filed 3-2-18; 8:45 am]

BILLING CODE 4184-22-P